DEPARTMENT OF ENERGY

Federal Energy Regulatory Commission

[Docket No. IC01-73-000, FERC Form 73]

Proposed Information Collection and Request for Comments

September 24, 2001.

AGENCY: Federal Energy Regulatory Commission, DOE.

ACTION: Notice of proposed information collection and request for comments.

SUMMARY: In compliance with the requirements of Section 3506(c)(2)(a) of the Paperwork Reduction Act of 1995 (Pub. L. No. 104-13), the Federal Energy Regulatory Commission (Commission) is soliciting public comment on the specific aspects of the information collection described below.

DATES: Consideration will be given to comments submitted on or before November 27, 2001.

ADDRESSES: Copies of the proposed collection of information can be obtained from and written comments may be submitted to the Federal Energy Regulatory Commission, Attn: Michael Miller, Office of the Chief Information Officer, CI-1, 888 First Street NE., Washington, DC 20426.

FOR FURTHER INFORMATION CONTACT: Michael Miller may be reached by telephone at (202) 208-1415, by fax at (202) 208-2425, and by e-mail at mike@ferc.fed.us.

SUPPLEMENTARY INFORMATION: The information collected under FERC Form73 “Oil Pipelines Service Life Data” (OMB No. 1902-0019) is used by the Commission to implement the statutory provisions governed by Sections 306 and 402 of the Department of Energy Organization Act 42 U.S.C. 7155 and 7172, and Executive Order No. 12009, 42 FR 46277 (September 13, 1977). The Commission has authority over interstate oil pipelines as stated in the Interstate Commerce Act, 49 U.S.C. 6501 et al. As part of the information necessary for the subsequent investigation and review of the oil pipeline company's proposed depreciation rates, the pipeline companies are required to provide service life data as part of their data submissions if the proposed depreciation rates are based on remaining physical life calculations. This service life data submitted on FERC Form 73.

The data submitted are used by the Commission to assist in the selection of appropriate service lives and book depreciation rates. Book depreciation rates are used by oil pipeline companies to compute the depreciation portion of their operating expense which is a component of their cost of service which is turn is used to determine the transportation rate to assess customers. Staff's recommended book depreciation rates become legally binding when issued by Commission Order. These rates remain in effect until a subsequent review is requested and the outcome indicates that a modification is justified. The Commission implements these filing requirements in 18 CFR 347 and 357.

Action: The Commission is requesting a three-year extension of the current expiration date, with no changes to the existing collection of data.

Burden Statement: Public reporting burden for this collection is estimated as:

Number of respondents annually (1) | Number of responses per respondent (2) | Average burden hours per response (3) | Total annual burden hours (1)×(2)×(3)
2 | 1 | 40 | 80

Estimated cost burden to respondents: 80 hours/2,080 hours per year × $117,041 per year = $4,501. The cost per respondent is equal to $2251.

The cost estimate for respondents is based upon salaries for professional and clerical support, as well as direct and indirect overhead costs. Direct costs include all costs directly attributable to providing this information, such as administrative costs and the cost for information technology. Indirect or overhead costs are costs incurred by an organization in support of its mission. These costs apply to activities which benefit the whole organization rather than any one particular function or activity.

The reporting burden includes the total time, effort, or financial resources expended to assemble and disseminate the information including: (1) Reviewing the instructions; (2) developing, or acquiring appropriate technological support systems necessary for the purposes of collecting, validating, processing, and disseminating the information; (3) administration; and (4) transmitting, or otherwise disclosing the information.

Comments are invited on: (1) Whether the proposed collection of information is necessary for the proper performance of the functions of the Commission, including whether the information will have practical utility; (2) the accuracy of the agency's burden estimate of the proposed collection of information, including the validity of the methodology and assumptions used; (3) ways to enhance the quality, utility and clarity of the information to be collected; and (4) ways to minimize the burden of the collection of information on those who are to respond, including the use of appropriate automated, electronic, mechanical, or other technological collection techniques or other forms of information technology, e.g., permitting electronic submission of responses.

David P. Boergers,
Secretary.

[FR Doc. 01-24295 Filed 9-27-01; 8:45 am]

BILLING CODE 6717-01-P